DEPARTMENT OF EDUCATION

Announcement of an Open Meeting

AGENCY: U.S. Department of Education, President's Advisory Commission on Educational Excellence for African Americans.

ACTION: Announcement of an open meeting.

SUMMARY: This notice sets forth the schedule and agenda of the meeting of the President's Advisory Commission on Educational Excellence for African Americans (PACEEAA). The notice also describes the functions of the PACEEAA. Notice of the meeting is required by § 10(a)(2) of the Federal Advisory Committee Act and is intended to notify the public of its opportunity to attend. Due to challenges associated with assembling the quorum required to carry out necessary functions prior to the end of the administration, and to ensure the availability and attendance of the chair to lead the meeting, this meeting notice is submitted late.

DATES: The PACEEAA meeting will be held October 10, 2016 from 9:00 a.m.-4:00 p.m. EST at Mason & Rook Hotel, 1430 Rhode Island Ave NW., Washington, DC 20005.

FOR FURTHER INFORMATION CONTACT: Monique Toussaint. Monique.Toussaint@ed.gov (202) 260-0964.

SUPPLEMENTARY INFORMATION:

Statutory Authority and Function: The PACEEAA is established under Executive Order 13621, dated July 26, 2012 and extended by Executive Order 13708 dated September 30, 2015. The PACEEAA is governed by the provisions of the Federal Advisory Committee Act (FACA) (Pub. L. 92-463, as amended; 5 U.S.C. App. 2), which sets forth standards for the formation and use of advisory committees. The purpose of the PACEEAA is to advise the President and the Secretary of Education on matters pertaining to the educational attainment of the African American community, including: (1) The development, implementation, and coordination of educational programs and initiatives at the Department and other agencies to improve educational opportunities and outcomes for African Americans of all ages; (2) efforts to increase the participation of the African American community and institutions that serve the African American community in the Department's programs and in education programs at other agencies; (3) efforts to engage the philanthropic, business, nonprofit, and education communities in a national dialogue on the mission and objectives of this order; and (4) the establishment of partnerships with public, private, philanthropic, and nonprofit stakeholders to meet the mission and policy objectives of its Executive Order.

Meeting Agenda

October 10, 2016

9:00 a.m.-11:00 a.m. EST PACEEAA Updates and Initiative Resources

11:00 a.m.-12:30 p.m. EST Policy, Program, and Transition Updates

12:30 p.m.-1:30 p.m. EST PACEEAA Member Deliberation & Discussion

1:00 p.m.-3:30 p.m. EST PACEEAA Led Engagements

3:30 p.m. EST Remarks from Secretary John King

4:00 p.m. EST Adjournment

Submission of written public comments: The Committee invites written comments, which will be taken into consideration by the Committee. Include in the subject line “Written Public Comments”. Send an email to AfAmEvents@ed.gov. The email must include the name(s), title, organization/affiliation, mailing address, email address, and telephone number, of the person(s) making the comment. Comments should be submitted as a Microsoft Word document or in a medium compatible with Microsoft Word (not a PDF file) that is attached to an electronic mail message (email) or provided in the body of an email message. Please do not send material directly to PACEEAA members.

Access to Records of the Meeting: The Department will post the official report of the meeting on the PACEEAA's Web site 90 days after the meeting. Pursuant to the FACA, the public may also inspect the materials at 400 Maryland Avenue SW., Washington, DC, by emailing AfAmEvents@ed.gov or by calling (202) 260-0964 to schedule an appointment.

Reasonable Accommodations: The meeting site is accessible to individuals with disabilities. If you will need an auxiliary aid or service to participate in the meeting (e.g., interpreting service, assistive listening device, or materials in an alternate format), notify Monique Toussaint.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: PACEEEAA—Executive Order 13621, dated July 26, 2012 and extended by Executive Order 13708 dated September 30, 2015.

Ted Mitchell,
Under Secretary, U.S. Department of Education.

[FR Doc. 2016-24487 Filed 10-7-16; 8:45 am]

BILLING CODE 4000-01-P